DEPARTMENT OF ENERGY

Federal Energy Regulatory Commission

[Project No. 719-007 Washington]

Trinity Conservancy, Incorporated; Notice of Availability of Final Environmental Assessment

January 15, 2004.

In accordance with the National Environmental Policy Act of 1969 and the Federal Energy Regulatory Commission's regulations, 18 CFR part 380 (Order No. 486, 52 FR 47879), the Office of Energy Projects has reviewed the application for a subsequent license for the Trinity Hydroelectric Project, located on Phelps Creek and James Creek, tributaries of the Chiwawa River, in Chelan County, Washington, and has prepared a Final Environmental Assessment (FEA). The project occupies about 72 acres of land within the Wenatchee National Forest, administered by the U.S. Forest Service.

The FEA contains the staff's analysis of the potential environmental impacts of the project and concludes that licensing the project, with the appropriate environmental protective measures, would not constitute a major federal action that would significantly affect the quality of the human environment.

A copy of the FEA is on file with the Commission and is available for public inspection. The FEA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via e-mail of new filings and issuances related to this or other pending projects. For assistance, contact FERC Online Support. For further information, contact Charles Hall at (202) 502-6853 or by E-mail at charles.hall@ferc.gov.

Magalie R. Salas,
Secretary.

[FR Doc. E4-102 Filed 01-23-04; 8:45 am]

BILLING CODE 6717-01-P